DEPARTMENT OF LABOR

Public Availability of the Department of Labor FY 2011 Service Contract Inventory

AGENCY: Office of Assistant Secretary for Administration and Management, Department of Labor.

ACTION: Notice of Public Availability of FY 2011 Service Contract Inventories.

SUMMARY: In accordance with Section 743 of Division C of the Consolidated Appropriations Act of 2010 (Pub. L. 111-117), Department of Labor (DOL) is publishing this notice to advise the public of the availability of its FY 2011 Service Contract Inventory. This inventory provides information on service contract actions over $25,000 made in FY 2011. The information is organized by function to show how contracted resources are distributed throughout the agency. The inventory has been developed in accordance with guidance issued on November 5, 2010 by the Office of Management and Budget's Office of Federal Procurement Policy (OFPP). OFPP's guidance is available at http://www.whitehouse.gov/sites/default/files/omb/procurement/memo/service-contract-inventories-guidance-11052010.pdf. DOL has posted its inventory and a summary of the inventory on the DOL homepage at http://www.dol.gov/dol/aboutdol/main.htm#inventory.

FOR FURTHER INFORMATION CONTACT: Questions regarding the service contract inventory should be directed to Gladys M. Bailey in the DOL/Office of Acquisition Management Services on (202) 693-7244 or bailey.gladys@dol.gov.

Dated: April 19, 2012.
Edward Hugler,
Deputy Assistant Secretary for Operations.

[FR Doc. 2012-10018 Filed 4-25-12; 8:45 am]

BILLING CODE 4510-23-P